DEPARTMENT OF AGRICULTURE

Forest Service

Record of Decision for Oil and Gas Leasing on Lands Administered by the Targhee National Forest; Bonneville, Butte, Clark, Fremont, Jefferson, Lemhi, Madison and Teton Counties, Idaho; Lincoln and Teton Counties, Wyoming

AGENCY: USDA, Forest Service is the lead agency USDI, Bureau of Land Management is a cooperating agency.

ACTION: Notice that a Decision has been made.

SUMMARY: This notice announces the decision made by the Forest Supervisor for Oil and Gas Leasing on the Targhee National Forest; and that the Bureau of Land Management has been a cooperating agency in the preparation of the EIS and will adopt the document for its leasing decisions. The notice of availability of the final environmental impact statement was published in the Federal Register on May 26, 2000 (Vol. 65, No. 103, pages 34174 and 34175).

DATES: The decision is appealable pursuant to 36 CFR 215 for 45 days from the date the legal notice appeared in the Idaho Falls Post Register. The legal notice appeared on August 15, 2000 and the appeal period will end on September 29, 2000.

ADDRESSES: The responsible official is Jerry B. Reese, Forest Supervisor, Caribou-Targhee National Forest, P.O. Box 208, 420 North Bridge Street, St. Anthony, ID 83445.

FOR FURTHER INFORMATION CONTACT: John Pruess, Caribou-Targhee National Forest, P.O. Box 208, 420 North Bridge Street, St. Anthony, ID 83445, telephone number (208) 624-3151.

Dated: August 16, 2000.
Jerry B. Reese,
Forest Supervisor, Caribou-Targhee National Forest.

Decision To Adopt the Targhee National Forest Oil and Gas Leasing Analysis Environmental Impact Statement

By the Bureau of Land Management, a Cooperating Agency; Bonneville, Butte, Clark, Fremont, Lemhi, Madison, and Teton Counties, Idaho; Lincoln and Teton Counties, Wyoming.

The Wyoming and Idaho Bureau of Land Management (BLM) hereby adopt the Targhee National Forest Oil & Gas Leasing Analysis Environmental Impact Statement (EIS) pursuant to the provisions of 40 CFR 1506.3(c). BLM was identified as a Cooperating Agency in the Draft EIS (DEIS), the Final EIS (FEIS), and all Federal Register notices concerning the EIS. The EIS sufficiently addresses all concerns to allow the BLM to issue oil and gas leases in the Targhee National Forest in compliance with the National Environmental Policy Act (NEPA) and the Council on Environmental Quality (CEQ) regulations, subject to further site-specific environmental analysis for specific drilling or development proposals.

The BLM developed the Oil and Gas Potential Report and the oil and gas reasonably foreseeable development (RFD) scenario for the National Forest prior to preparation of the EIS. The BLM has been involved in the identification of issues, the scoping and public involvement process, and has reviewed and provided comments on the Draft EIS. The BLM was also involved in the analysis of the comments on the Draft EIS. The EIS will not be recirculated because the BLM participated in its development, analysis, public involvement, and distribution.

The BLM finds, after independent review of the DEIS and the FEIS, that its comments and concerns have been satisfied. Further, BLM finds that the Forest Service Record of Decision adequately describes the rationale for selecting the preferred alternative. Finally, BLM finds that the EIS provides an adequate oil and gas RFD scenario and that the EIS meets the BLM Supplemental Program Guidance requirements for oil and gas leasing.

Prior to the BLM deciding whether or not to offer specific lands in the Targhee National Forest for oil and gas leasing, the Forest Service will help finalize the delineation of nominated lease parcels and insure that the appropriate stipulations are provided. Leases will not be issued without the concurrence of the Forest Service.

July 14, 2000.

Al Pierson,

BLM State Director, Wyoming.

Martha G. Hahn,

BLM State Director, Idaho.

Record of Decision

Targhee National Forest Oil and Gas Leasing Final Environmental Impact Statement; USDA Forest Service, Intermountain Region Targhee National Forest Bonneville, Butte, Clark, Fremont, Lemhi, Madison and Teton Counties, Idaho Lincoln and Teton Counties, Wyoming; Cooperating Agency: U.S. Department of Interior Bureau of Land Management

I. Introduction

This Record of Decision documents my decision as Responsible Official on the leasing of National Forest System lands for exploration, development, and production of oil and gas on the Targhee National Forest. These decisions include the determination of which lands will be made administratively available for leasing and which specific lands the Bureau of Land Management (BLM) will be authorized to lease (FEIS, 1-1). These decisions also amend the Land and Resource Management Plan for the Targhee National Forest.

These decisions are based on the Targhee National Forest Oil and Gas Leasing Environmental Impact Statement (EIS) and public comment, as well as other information available to us. The EIS was prepared in compliance with the National Environmental Policy Act of 1969 (NEPA) in order to implement authorities extended to the Forest Service by the Federal Onshore Oil and Gas Leasing Reform Act of 1987 (FEIS, 1-3). All lands with federal mineral ownership within the study area (see Figure 1-1) were considered for leasing.

Department of Agriculture regulations at 36 CFR 228 Subpart E, implement Forest Service authorities granted under the Reform Act. These regulations require the Forest Service to make two leasing decisions. First, the Forest Service must decide which lands are administratively available for leasing (36 CFR 228.102(d)). Second, it must decide which specific lands the BLM will be authorized to offer for leasing (36 CFR 228.102(e)). As part of these decisions, the Forest Service must determine the conditions of surface occupancy or constraints, and ensure that appropriate stipulations are properly included as stipulations to the resulting leases. The lease stipulations are designed to protect forest resources and are based on the analysis documented in the EIS and the Revised Forest Plan for the Targhee National Forest.

The Secretary of Interior was granted the authority through the Mineral Leasing Act of 1920 as amended, to issue oil and gas leases for all federally owned minerals. The Secretary of Interior was also granted authority to set the terms under which oil and gas may be leased and the administrative requirements governing issued leases. The authority was extended to the BLM. The BLM is responsible for the sale and subsequent issuance of federal oil and gas leases (43 CFR Part 3100 through 3140).

The BLM and the Forest Service are required to coordinate oil and gas leasing decisions on National Forest System lands (43 CFR Part 3101.7). National Forest System lands reserved from the public domain or otherwise acquired cannot be leased over the objection of the Forest Service (see 43 CFR Part and 43 CFR Part 3101.7-2(b)). Where the Forest Service's consent to lease specific lands has been conditioned upon inclusion of stipulations into the lease, the authorized BLM officer is to incorporate these stipulations into any lease that may be issued on those lands (43 CFR Part 3101.7-2(a)). Once the Forest Service has authorized leasing of specific lands, final decisions regarding issuance or non-issuance of a lease for those lands reside with the BLM (43 CFR Part 3101.7-2).

Issuance of a Federal lease is the first stage in the administrative process of granting rights and approvals to explore for, develop, and produce oil and gas that may be present in the lease lands. There will be subsequent, more site specific, environmental analysis and approvals required at the exploratory drilling and field development stages. Sufficient authority has been retained at the leasing stage thru existing laws, regulations, standard lease terms and lease stipulations to avoid making irreversible, irretrievable commitments of resources that would result in unacceptable environmental impact. Additional requirements may be imposed at the time surface use and drilling plans are approved.

II. Decisions

The Forest Service and the BLM, federal agencies that have separate responsibilities for lands within the Targhee National Forest, have the following decisions to make:

1. The Forest Supervisor of the Targhee National Forest will decide which lands with federal mineral ownership are administratively available for oil and gas leasing and under what conditions.

2. The Forest Supervisor will decide what specific National Forest System lands the BLM will be authorized to offer for lease, subject to the Forest Service ensuring that correct stipulations will be attached to leases issued by the BLM.

3. The Forest Supervisor will need to make a decision to amend the Targhee Forest Plan to incorporate the leasing decisions being made here.

4. Subsequently, the BLM will decide whether or not to offer for lease the specific lands authorized by the Forest Service.

A. Availability Decision—36 CFR 228.102(d)

Based on the information analyzed and disclosed in the FEIS, the array of alternatives adequately address existing laws, regulations, Forest Plan direction, and responds to the public comments. Of these alternatives, I have selected Alternative 3 of the Final EIS (the preferred alternative) for the availability decision for specific lands (FEIS, 2-15).

This decision only applies to federal minerals and recognizes that the Forest Service has no authority with respect to the leasing of private or state minerals.

Specified lands with federal mineral ownership are available for leasing with lease stipulations applied to each specific resource area (see map attached to this decision). These stipulations and their rationale are described in detail in the table included as part of this decision.

Approximate Acres Authorized for Leasing
Type of restriction | Acres
No Surface Occupancy | 306,173
Special Stipulations (Controlled Surface Use and/or Timing Stipulations) | 87,001
Standard Lease Terms | 0
Total Acres Authorized For Leasing | 393,174

The application of a No Surface Occupancy stipulation is intended to apply to well sites and production facilities such as tank batteries and compressor stations. Forest Plan standards and guidelines will be used to determine the acceptability and govern the design and placement of any proposed roads or other linear facilities (pipelines, power lines, etc.) that typically extend beyond the lease boundaries. This allows for consistent standards to be applied, whether on lease or off lease. This is not to imply that roads or pipelines would be allowed in all places; they would not be allowed through the Research Natural Areas (RNAs), for example, since that would be inconsistent with the purposes for which RNAs are designated. They would also not be allowed in areas where the likely result would be unacceptable degradation of water quality, fisheries habitat, etc. Forest Plan direction provides standards and guidelines related to road design and construction (Revised Forest Plan pgs. 111-7, 18, 19, 21, 23, 89, 93, 94, 100, 102, 110, 111, 115, 118, 124, 133 and 149). If a proposed road cannot meet those criteria it will not be approved unless the Forest Plan is amended, and this would require further environmental analysis.

Oil and gas leasing exploration and development are legitimate, permissible, and viable uses of National Forest System lands that have been not been set aside by Congress for specific uses (e.g., designated wilderness). This is evidenced by several laws affecting the management of National Forest System lands, including the Organic Administration Act of 1897, Mineral Leasing Act of 1920, Mineral Leasing Act for Acquired Lands of 1947, the Mining and Mineral Policy Act of 1970, the National Forest Management Act of 1976, and the Energy Security Act of 1980 (FEIS, Appendix E).

Based on the analysis documented in the EIS, I conclude that specific National Forest System lands within the analysis area can be made available for leasing, with appropriate stipulations, while continuing to sustain the land's productivity and its capability to support long term ecosystem health and biodiversity goals (FEIS, 2-6, 2-15 thru 19, Ch. 4).

Targhee National Forest Oil and Gas Leasing Stipulations
Resource | Stipulation | Objective | Rationale
Wildlife Seasonal Habitats Elk/Deer Winter Range→ Elk Summer Range→ Elk Summer Concentration→ Elk Calving Area→ Moose Winter Range→ | Timing Limitation. (TL) | To preclude the commencement of surface disturbing activities within the seasonal habitats—November 30 to April 1, April 1 to November 30, June 15 to August 15, May 15 to July 15, and November 15 to April 30, which could cause increased stress and/or displacement during the respective critical time periods | Under Standard Lease Terms (SLT), activities can be delayed for up to 60 days to mitigate disturbance to wildlife seasonal habitats, but this would not provide needed mitigation in those areas that might over-lap each other and require protection beyond 60 days. In this case a lease stipulation would be needed to preclude activities over an extended protection period. Also, by attaching a TL to the lease, the lessee is made aware of that requirement at the time the lease is acquired. The No Lease or No Surface Occupancy (NSO) stipulations are overly restrictive since operations conducted outside the no disturbance period would have a minimal effect on targeted wildlife.
Threatened, Endangered or Proposed Species (excluding grizzly bear, bald eagle and Ute ladies-tresses orchid) | Controlled Surface Use (CSU)—A survey would be required prior to surface disturbing activities to determine the possible presence of any T, E or P species and operations be designed and/or located so as not to adversely affect the viability of the species | To ensure that proposed activities do not adversely affect viability of a T, E or P species | Since the specific habitats of T, E of P species can change over time, a CSU stipulation will ensure that activities do not adversely affect the viability of these species should they be found during a survey at the time a well is proposed. The No Lease or NSO stipulation is overly restrictive since we are seeking to protect viability of a species, and not necessarily each individual animal or plant, which can often be avoided when locating facilities. Under SLTs, moving a facility 200 meters may not be sufficient to ensure a species viability.
Grizzly Bear Management Units (BMU's) | None—not available for leasing | To preclude surface disturbing activities which would cause increased stress and/or displacement of animals | The 1997 Revised Forest Plan management objective for these areas is to provide a predictable refuge in space and time and a secure habitat for grizzly bears. Oil and gas activities would not be compatible with this objective. A No Surface Occupancy stipulation would allow for directional drilling, but since adjoining lands are also unavailable for leasing, access to directional drill from nearby lands would not be possible.
Bald Eagle Ute Ladies-tresses Orchid | No Surface Occupancy within 1 mile of bald eagle nests No Surface Occupancy | To insure that proposed activities do not adversely affect the viability of the bald eagle or Ute ladies-tresses orchid | The 1997 Revised Forest Plan emphasis is on minimizing human activities, avoiding and/or prohibiting road construction and ground disturbing activities in bald eagle and Ute ladies-tresses orchid habitats. CSU, TL stipulations, or leasing under standard lease terms would allow operations in the areas, which would have a negative impact on these species. The No Lease option is not appropriate since impacts can be mitigated under an NSO stipulation.
Sensitive Species | No Surface Occupancy | To insure that proposed activities do not adversely affect the viability of sensitive animal and plant species and would not result in a downward trend toward listing | The CSU, TL stipulations, or leasing under standard lease terms would allow operations, which have a negative impact on these species and might result in a downward trend toward listing.
Concentrated Development Areas—communication sites, administrative sites, active mines, mineral material sites, etc | No Surface Occupancy | To preclude surface occupancy and new surface disturbing activities within concentrated development areas | Concentrated development allocates these specific lands for a specific use and a NSO stipulation is deemed necessary to protect the capital investment associated with these sites. A CSU, TL, or SLT stipulation would allow operations within these areas, which could negatively affect the capital investment. The No Lease option is not appropriate since impacts can be mitigated under an NSO stipulation.
Riparian Vegetation | Controlled Surface Use | To require that activities be located and/or designed to avoid or minimize the potential for adverse effects to riparian areas | Standard lease terms would not make the potential lessee aware of restrictions and possible increased operating costs. The No Lease option or No Surface Occupancy stipulation would preclude any activities and is deemed to be more restrictive than needed to ensure resource protection.
Non-Motorized Recreation | None—Not Available for Leasing | To protect the recreational values and natural setting within areas designated as semi-primitive non-motorized in the 1997 Revised Forest Plan | The 1997 Revised Forest Plan management direction for the semi-primitive non-motorized areas is to close existing system or nonsystem roads and prohibit new road construction. Oil and gas activities would not be compatible with recreational values that are based on primitive settings.
Motorized Recreation | Controlled Surface Use | To require that activities be located and/or designed to avoid or minimize the potential for adverse effects to recreational values and natural settings associated with this resource | The 1997 Revised Forest Plan allows some motorized vehicle use because these areas are accessible by roads and trails. Generally, no new road construction is allowed. The No Lease option or No Surface Occupancy stipulation would preclude any activities and is deemed to be more restrictive than needed to ensure resource protection. Standard Lease Terms would not make the potential lessee aware of restrictions and possible increased operating costs.
Developed Recreation Sites | No Surface Occupancy—one mile buffer around developed recreation sites (campgrounds) | To preclude surface occupancy and new surface disturbing activities within and near developed recreation sites | Construction of a developed recreation site allocates those specific lands for a specific use and a NSO stipulation is deemed necessary to protect the capital investment made and the associated recreational values. A Controlled Surface Use, Timing Limitation stipulation or leasing under standard terms would allow operations within these areas which could affect the capital investment and/or recreational setting and therefore were not deemed appropriate. The No Lease option is not considered appropriate since impacts can be mitigated using a NSO stipulation.
Special-Use Permit Recreation Sites | No Surface Occupancy | To preclude surface occupancy and new surface disturbing activities within special-use permit sites such as ski resorts, summer homes, and organization camps | Construction of resorts, summer homes, organization camps, etc., allocates these specific lands for a specific use and a NSO stipulation is deemed necessary to protect the capital investment made and the associated recreational values. A Controlled Surface Use, Timing Limitation Stipulation or leasing under standard terms would allow operations within these areas which could affect the capital investment and/or recreational setting and therefore were not deemed appropriate. The No Lease option is not considered appropriate since impacts can be mitigated using a NSO stipulation.
Roadless Area | No Surface Occupancy | To preclude surface occupancy and surface disturbing activities that would alter the primitive setting | Oil and gas activities would not be compatible with recreation values based on primitive settings. The primitive setting would be negatively impacted by application of less restrictive stipulations such as CSU and TL and standard lease terms.
Special Management Areas | None—Not available for leasing | To preclude surface occupancy and surface disturbing activities that would negatively impact areas of unique cultural, botanical, or zoological resource values | Oil and gas activities would not be compatible with unique cultural, botanical, or zoological resource values. A No Surface Occupancy stipulation would allow for directional drilling, but since a large share of adjoining lands are unavailable for leasing, access to directional drill would be limited.
Unstable Soils | No Surface Occupancy | To preclude surface disturbing activities on areas that have a high erosion/stability hazard and would be difficult to reclaim | Surface disturbance within these areas would cause accelerated erosion or increased instability and would be difficult to reclaim, therefore, an NSO stipulation is necessary. Operations within these areas could occur under either a CSU or TL stipulation, or under SLTs but erosion and the stability of the area would be negatively affected. The No Lease option is not appropriate since impacts can be mitigated using an NSO stipulation.
Slopes > 40% | No Surface Occupancy | To preclude construction of well sites and related facilities on slopes over 40%, which would involve relatively large cut and fill slopes and would be difficult to rehabilitate | Soil disturbance of an area required for a well paid on steep slopes would be difficult to reclaim and could result in unacceptable soil loss through erosion and potentially increase the sediment load in the streams. Operations within these areas could occur under either a CSU or TL stipulation or under SLTs but the stability of the area would be negatively affected. The No Lease option is not appropriate since impacts can be mitigated using an NSO stipulation.
Wild, Scenic and Recreational Rivers | None—Not available for leasing the banks of eligible wild, scenic and recreational rivers for ¼ mile from normal high water marks | To preclude operations that would negatively impact resource values associated with wild, scenic and recreational rivers | Roads, wellsites and other facilities and activities associated with oil and gas operations would alter the resource values associated with wild, scenic and recreational river corridors. A No Surface Occupancy stipulation would allow for directional drilling, but since most of the adjoining lands have a NSO stipulation, access to directional drill from near by lands would be limited.
Retention and Partial Retention Visual Quality Objective (VQO) | Controlled Surface Use-Proposed activities would be required to be located and/or designed to meet the visual quality objective within one year of commencing operations | To ensure that the visual quality of the area is maintained | Application of the CSU stipulation identifies the standard that the operator must meet and provides the opportunity to still conduct activities as long as that standard is met. The No Lease option or an NSO stipulation is overly restrictive in that the VQO can often be met using vegetative or topographic screening and similar methods to mitigate the visual impacts. Under SLTs, some impacts could be mitigated but operations could not be denied if the VQO could not be met.

B. Leasing Decision for Specific Lands

I have selected Alternative 3 of the Final EIS for the leasing decision for specific lands and authorize the BLM to offer the specific lands for lease subject to the Forest Service ensuring that correct stipulations will be attached to leases issued by the BLM (FEIS, 1-8).

With this decision, a variety of stipulations will be applied to most of the specific resource areas to protect surface resources, or to retain sufficient authority to ensure that potential impacts can be mitigated when surface disturbing activities are proposed (FEIS, 2-6, 2-15 thru 2-19).

Rationale

Forest Service regulations at 36 CFR 228.102(e) state that the BLM shall be authorized to offer specific lands for lease subject to:

1. Verifying that oil and gas leasing of the specific lands has been adequately addressed in a NEPA document, and is consistent with the forest land and resource management plans.

I have reviewed the EIS and believe that it is sufficiently site specific in its analysis to address the consequences of future leasing actions. Although the location of future ground disturbances associated with oil and gas exploration and development activities is unknown at this time, the reasonably foreseeable development scenario provides a sound basis for estimating environmental consequences (FEIS, 1-5, Appendix A). The lease terms and stipulations to be used when leases are issued have been specified and the effectiveness of these stipulations is well known on the types of lands described in the Affected Environmental (Chapter 3) of the FEIS. This is based, to a large degree, on experience gained through past exploration activities on and adjacent to the national forest (FEIS, Appendix A, p. 6). As part of the leasing decision for specific lands, sufficient authority has been retained by virtue of existing law, regulations, standard lease terms, and special stipulations to avoid or otherwise mitigate impacts. Also, additional NEPA analysis will be conducted at the time a specific project is proposed and mitigation measures specific to that proposal will be identified in accordance with 36 CFR 228.107 and 228.108 (FEIS, 1-8, Appendix B).

A significant number of comments received in response to the DEIS focused on the compatibility of potential oil and gas activities with other resource values and uses and their related land allocation decisions made in the 1997 Revised Forest Plan (FEIS, 2-1 thru 2-4, Ch. 6). One of the key considerations that has been taken into account in making this decision is the land allocations of the Revised Forest Plan, which was approved following substantial public involvement in 1997.

In consideration of these points, I am confident that the analysis documented in the FEIS provides sufficient basis for evaluating alternatives and making a reasoned decision.

2. Ensuring that conditions of surface occupancy identified during the NEPA analysis are properly included as stipulations in resulting leases.

Again, this decision is subject to the Forest Service ensuring that correct stipulations are attached to leases issued by the BLM. As this decision is implemented, the Forest Service will take administrative action to parcel the land and attach the appropriate lease stipulations, as identified in the FEIS and this Record of Decision, for forwarding to the BLM. The interagency agreement between the Forest Service and the BLM dated 1991 states that, “Prior to finalizing a sale notice that includes NFS lands, BLM will forward the notice to the FS to ensure that correct stipulations are being used.”

3. Determining that operations and development could be allowed somewhere on each proposed lease, except where stipulations will prohibit surface occupancy.

The areas where exploration and development may be allowed are delineated on the attached map (FEIS, Figure 2-3). The map also shows where surface occupancy is prohibited by lease stipulation. This map will be used when tracts are parceled and configured to allow operations and development somewhere on each proposed lease, or to identify it as a lease where stipulations prohibit all surface occupancy.

The No Lease portion of the forest along the Wyoming border in the east and along the Montana border in the north and westward to the western end of the forest is classified as having a no or low potential for the occurrence of oil and gas (FEIS, Appendix A, Oil and Gas Potential Report). The no lease determination for this area was based on these classifications and threatened and endangered wildlife concerns such as the protection of grizzly bear habitat.

The only portions of the forest having a moderate or high potential for the occurrence of oil and gas are in the south—north and west of Palisades Reservoir. However, most of the high potential area is unavailable for leasing due to proposed wilderness and wilderness study area land allocations decisions in the Revised Forest Plan. This leaves portions of the moderate potential area of the forest available for oil and gas operations. However, a substantial portion of this area has a No Surface Occupancy stipulation applied to it, because of designated roadless areas and steep and unstable slopes (FEIS, 2-15 thru 19).

C. Decision To Amend Forest Plan

It is my decision to amend the 1997 Revised Forest Plan for the Targhee National Forest with the decisions made above. The decisions made here comply fully with the goals, Management Area direction, and the forest-wide standards and guidelines in the Revised Forest Plan. The analysis of this amendment is documented in the EIS. I conclude that this is a nonsignificant amendment to the forest plan.

III. Public Involvement

Scoping is the process used to identify issues related to a proposed action and the scope of issues to be addressed during the NEPA analysis (FEIS, 2-1 thru 2-4). The Forest Service initiated scoping in April 1993 with the preparation of a scoping document. This formal scoping document was prepared to inform interested agencies, organizations, businesses, and individuals of the Forest Service and BLM's intent to conduct an environmental analysis of oil and gas leasing on portions of the Targhee National Forest. The document solicited comments from readers to assist the Forest Service and the BLM in identifying specific interests and concerns that should be addressed in the analysis.

The formal scoping process began May 21, 1993 with the publishing in the Federal Register of a Notice of Intent to prepare the EIS. A public notice was also published in the following five newspapers serving the area in and around the Forest: the Rexburg Standard-Journal, Teton Valley News, Jefferson County Star, Post Register (Idaho Falls), and Jackson Hole News. Next, copies of the scoping document were sent to almost 2,100 agencies, organizations, businesses, and individuals. In addition, two public meetings were held to discuss the proposal. Attendees were given the opportunity to ask questions and submit oral and written questions. These two meetings were held in Driggs, Idaho on June 16, 1993, and in Idaho Falls, Idaho on June 17, 1993 (FEIS, 6-3, 4).

The Forest Service reviewed and analyzed the 94 comments received during the scoping process. The comments received helped the interdisciplinary team identify the issues that needed to be addressed in the analysis. Issues revolved around the effects of oil and gas leasing and subsequent activities on wildlife, recreation, air and water resources, visuals, soils, transportation, threatened, endangered, and sensitive plant and animal species, vegetation, inventoried roadless areas, fisheries, and wetland and riparian areas. Also at issue was the effect of restrictive stipulations and mitigation measures on oil and gas exploration and development (FEIS, 2-1 thru 2-4).

The Draft EIS for this proposal was released for public review in September 1996. Copies of the Draft EIS were sent to all interested parties identified during the scoping process as well as appropriate local, state, and federal agencies.

The comment period on the Draft EIS ran from September 21, 1996 through December 4, 1996. Over 400 responses were received. All comments were reviewed and considered and are available for public review at the Forest Supervisor's Office, Targhee National Forest. The Forest Service reviewed and considered these, along with the comments received at public meetings. Changes in the FEIS were based upon the comments and on further analysis by the Forest Service (FEIS, 6-7 thru 6-23). No decisions were based upon the quantity of comments received on a particular issue.

The FEIS was published and released to the public on May 10, 2000 for a 30 day review period. This review period was to allow final comments for consideration in the Record of Decision. Seventeen letters were received. Five letters supported oil and gas leasing on the Targhee National Forest; two in support of Alternative 3 (the preferred alternative), one in support of Alternative 2, and the remaining not specifying which leasing alternative was preferred. Twelve letters either opposed oil and gas leasing or preferred the no leasing alternative. Most stated that the preferred alternative (Alternative 3) was a significant improvement over the preferred alternative in the Draft EIS. Several expressed concern about the length of time since the DEIS had been released, but expressed support for the changes made to develop the preferred alternative in the FEIS. A few expressed concern about the potential changes in the No Surface Occupancy stipulation after the leases were issued, but supported the idea that No Surface Occupancy is the appropriate stipulation, if leasing is allowed. In general, the comments did not express major concern with the selection of Alternative 3.

IV. Alternatives Considered

The alternatives considered in this analysis include:

Alternative 1: No Leasing

Alternative 2: 1997 Revised Forest Plan

Alternative 3: Revised Forest Plan Modification No. 1-Preferred

Alternative 4: Revised Forest Plan Modification No. 2

Alternative 5: Standard Lease Terms

Alternatives

The development of alternatives was designed to formulate a range of reasonable alternatives that addressed the issues identified during the scoping and public involvement process and to ensure that the viable lease options were considered for each specific resource area. Based on the analysis contained in the FEIS, these alternatives could be implemented in whole or used in part to modify another alternative with respect to one or more of the specific resources or resource areas in making the decision (FEIS, 2-5 thru 2-7).

Alternative 1: No Leasing

This is the “No Action” alternative required by the Council of Environmental Quality regulations implementing the National Environmental Policy Act (NEPA). Under this alternative the Federal minerals within the analysis area would not be made available for oil and gas leasing by either the Forest Service or BLM. Since all Federal minerals would not be available for leasing, there would be no site-specific decision to be made (FEIS, 2-7,8).

Alternative 2: 1997 Revised Forest Plan

process, is that all areas with no or a low potential for deposits of oil or natural gas would not be available for leasing. Under this alternative, 22 percent of the Forest would be available for leasing with protective lease stipulations (FEIS, 2-15 thru 2-19).

Alternative 4. Revised Forest Plan Modification No. 2

This alternative was designed to be less restrictive than the preceding action alternatives and to be responsive to Issue 12, which reflects comments related to the need for oil and gas development while providing a degree of protection of other resource values. Under this alternative, more of the Forest (49 percent) would be available for leasing with less restrictive stipulations (FEIS, 2-19 thru 2-22).

Alternative 5: Standard Lease Terms

This alternative defines one end (opposite of Alternative 1) of the possible range of alternatives. Under this alternative 49 percent of the Forest would be available for leasing with standard lease terms (no special stipulations) (FEIS, 2-23). Mitigation of impacts on other resources would be based on existing laws such as the Endangered Species Act, the Archaeological Resource Protection Act, the Clean Water Act, and the Clean Air Act. For resources that are not protected by law, mitigation would be based on the Standard lease Terms and 43 CFR 3101.1-2, that provides clarification of reasonable mitigation as used in Section 6 of the Standard Lease Terms (delaying activities for up to 60 days or moving a well location up to 200 meters or 656 feet).

V. Environmentally Preferred Alternative

Although Alternative 1 would have the least effect on the biological and physical environment, I am identifying the selected Alternative 3 as environmentally preferable based on the following interpretation of the law and agency policy (FEIS, 2-15 thru 2-19).

Regulations implementing the National Environmental Policy Act (NEPA) require agencies to specify the alternative or alternatives which were considered to be environmentally preferable as an alternative that best meets the goals of section 101 of NEPA. Ordinarily this is the alternative that causes the least damage to the biological and physical environment and best protects, preserves, and enhances historical, cultural, and natural resources. In some cases there may be more than one environmentally preferable alternative (FSH 1909.15-05).

Section 101 of NEPA declares national environmental policy, calling on federal, state and local governments and the public to create and maintain conditions under which humans and nature can exist in productive harmony. This broad policy is further defined in six goals:

(1) fulfill the responsibilities of each generation as trustee of the environment for succeeding generations;

(2) assure for all Americans safe, healthful, productive, and aesthetically and culturally pleasing surroundings;

(3) attain the widest range of beneficial uses of the environment without degradation, risk to health or safety, or other undesirable and unintended consequences;

(4) preserve important historic, cultural, and natural aspects of our national heritage and maintain wherever possible an environment which supports diversity and variety of individual choice;

(5) achieve a balance between population and resource use which will permit high standards of living and a wide sharing of life's amenities; and

(6) enhance the quality of renewable resources and approach the maximum attainable recycling of depletable resources.

Section 101 does not call for the exclusion of Americans from use of their natural resources, but does demand that such uses avoid degradation of the environment. Alternative 3 best meets the goals of Section 101 of NEPA. By this standard, the selected Alternative 3 is the environmentally preferable alternative for the Targhee's Oil and Gas Leasing FEIS.

VI. Findings Required by Other Laws

The proposed action (Alternative 3) must comply with several laws, regulations and policies. Some of these are discussed in the following section.

National Environmental Policy Act (NEPA)—The Forest Service followed the direction for preparing an environmental analysis and document according to NEPA. My decision is based on the analysis contained in the Targhee National Forest's Oil and Gas Leasing FEIS.

Endangered Species Act (ESA)—ESA provides for conservation of endangered, threatened and proposed species of fish, wildlife and plants. A Biological Assessment (BA) of effects was prepared, which concluded that the proposed action was not likely to adversely affect any listed or proposed species. The U.S. Fish and Wildlife Service (Service) concurs with this determination (FEIS, Appendix G). The Service concurs that the proposed action may affect, but is not likely to adversely affect the federally listed grizzly bear, bald eagle, and Ute ladies'-tresses. The Service also concurs that the proposed action is not likely to jeopardize the continued existence of the proposed mountain plover and lynx, nor the experimental non-essential populations of the gray wolf and whooping crane.

Fish and Wildlife Conservation Act (FWCA—This Act encourages federal agencies to conserve and promote non-game fish and wildlife species and their habitats. It also requires consultation with U.S. Fish and Wildlife Service and appropriate state agencies when undertaking projects which could affect water resources. The Oil and Gas Leasing Analysis is in compliance with the Act because of the conclusions presented in Chapter IV, wildlife, fisheries, and threatened, endangered, and sensitive sections of the FEIS.

National Forest Land Management Plan—The Revised Forest Plan has been reviewed and a determination made that this decision is consistent with the Revised Forest Plan. The actions in this project comply fully with the goals, the Management Area Direction, and the Forest-wide standards and guidelines in the Revised Land and Resource Management Plan for the Targhee National Forest.

Other Legislation—The Forest Service has complied (or is complying) with other applicable legislation including, but not limited to, the Clean Water Act, Clean Air Act, and the Historic Preservation Act. These are described in Appendix E of the FEIS.

VII. Implementation

The decisions identified in this Record of Decision shall be implemented in the following manner:

1. In accordance with 36 CFR 228.102(d), the Forest Service shall promptly notify the BLM of this decision and identify lands which are administratively available for leasing (FEIS, 1-1).

2. In accordance with 36 CFR 228.102(e), available unleased lands the Forest Service has authorized the BLM to offer for lease will be submitted to the BLM as soon as the Forest Service takes administrative action to parcel the lands and attach the appropriate stipulations as identified in this decision (FEIS, Figure 2-3, 2-15 thru 2-19). These actions are administrative functions implementing this Record of Decision and are not subject to appeal.

3. The BLM will then prepare a listing of the parcels to be offered for lease in the next available lease sale. The Forest Service will have an opportunity to review that list for proper stipulations prior to the official 45 day posting of that list in accordance with the Federal Onshore Oil and Gas Leasing Reform Act of 1987.

4. If the lands in a parcel do not receive a bid when offered competitively at the lease sale, they will be available for noncompetitive offers for a period of two years (FEIS, Appendix B-1 thru B-2).

5. Following lease issuance, a lessee/operator may submit an Application for Permit to Drill (APD) that includes a Surface Use Plan of Operations (SUPO). Except where stipulations prohibit all surface use, operations and development may be allowed on the leased lands. Such activity is subject to the lessee/operator obtaining an approved SUPO from the Forest Service in accordance with 36 CFR Subpart E, 228.106 and 228.107. No decisions related to SUPO approval are being made in this Record of Decision, and an environmental analysis, tiered to this EIS will be conducted when a drilling proposal is submitted (FEIS, Appendix B-8 thru B-9).

It is my intent that if, at the time a drilling proposal is submitted, the environmental analysis concludes that cumulative effects associated with the proposal and other resource activities in the area will exceed state standards or forest plan standards, off-site mitigation may be required or the proposal denied until the standards can be met. In other words, any subsequent operation would be required to comply with existing laws, regulations and state standards (36 CFR 228.107-108).

VIII. Appeal Opportunities

This decision is subject to appeal pursuant to 36 CFR 215.7. A written Notice of Appeal must be postmarked within 45 days of the date legal of this decision is published in the Post Register (Idaho Falls). The Notice of Appeal should be sent to USDA Forest Service, Intermountain Region, ATTN: Appeals Deciding Officer, 342 25th Street, Ogden, Utah 84401. Appeals must meet the content requirements of 36 CFR 215.14.

If no appeal is received, implementation of this decision may occur on, but not before, five business days from the close of the appeal filing period. If an appeal is received, implementation may not occur for 15 days following the date of appeal disposition.

Copies of this Record of Decision, EIS, and the file of public comments are available for review at the following office: Forest Supervisor's Office, Targhee National Forest, 420 N. Bridge Street, St. Anthony, ID 83445.

For further information on this decision, please contact John Pruess at (208) 624-3151.

Dated: July 14, 2000.

Jerry B. Reese,

Forest Supervisor, Targhee National Forest.

The U.S. Department of Agriculture (USDA) prohibits discrimination in all its programs and activities on the basis of race, color, national origin, sex, religion, age, disability, political beliefs, sexual orientation, or marital or family status. (Not all prohibited bases apply to all programs). Persons with disabilities who require alternative means for communication of program information (Braille, large print, audio tape, etc.) should contact USDA's TARGET Center at (202) 720-2600 (voice and TDD).

To file a complaint of discrimination, write USDA, Director, Office of Civil Rights 326-W, Whitten Bulding, 1400 Independence Avenue, SW, Washington, D.C. 20250-9410 or call (202) 720-5964 (voice and TDD). USDA is an equal opportunity provider and employer.

[FR Doc. 00-21451 Filed 8-22-00; 8:45 am]

BILLING CODE 3410-11-M